SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 10, 2008.

ADDRESSES: Send all comments regarding whether this information collection is necessary for the proper performance of the function of the agency, whether the burden estimates are accurate, and if there are ways to minimize the estimated burden and enhance the quality of the collection, to Gail Hepler, Chief 7a Loan Policy Branch, Office of Financial Assistance, Small Business Administration, 409 3rd Street, SW., 8th Floor, Washington, DC 20416.

FOR FURTHER INFORMATION CONTACT: Gail Hepler, Chief 7a Loan Policy Branch, Office of Financial Assistance, 202-205-7530 gail.hepler@sba.gov; Curtis B. Rich, Management Analyst, 202-205-7030 curtis.rich@sba.gov.

SUPPLEMENTARY INFORMATION: In November 2005 SBA piloted a 1-year loan program specifically targeted to the counties and parishes that were declared disaster areas as a result of Hurricanes Katrina and Rita. This pilot was extended to December 30, 2008. Lenders use primarily their own application, however, SBA requires the minimal information requested on these forms from lenders and borrowers to carry out its loan monitoring, portfolio risk management, and lender oversight activities associated with this loan pilot.

Title: “Gulf Coast Relief Financing Pilot Information Collection.”

Description of Respondents: Small businesses devastated by Hurricanes Katrina and Rita.

Form Numbers: 2276 A, B, C and 2281.

Annual Responses: 120.

Annual Burden: 180.

Jacqueline White,
Chief, Administrative Information Branch.

[FR Doc. E8-20930 Filed 9-8-08; 8:45 am]

BILLING CODE 8025-01-P